DEPARTMENT OF COMMERCE

National Oceanic and Atmospheric Administration

[Docket No. 020325069-2311-02]

Request for Proposals for FY 2003—NOAA Educational Partnership Program With Minority Serving Institutions: Environmental Entrepreneurship Program

AGENCY: Office of Oceanic and Atmospheric Research (OAR), National Oceanic and Atmospheric Administration (NOAA). Commerce.

ACTION: Notice of an extension of deadline.

SUMMARY: This notice is an addendum to, and hereby extends only the deadline in, Federal Register Notice, Vol. 68., No. 2, January 3, 2003 for full proposals under the “NOAA Institutions: Environmental Entrepreneurship Program” to no later than 5 p.m. (Eastern Daylight Savings Time) on April 24, 2003.

Mark Brown,
Chief Financial/Administrative Officer, Office of Oceanic and Atmospheric Research, National Oceanic and Atmospheric Administration.

[FR Doc. 03-8270 Filed 4-3-03; 8:45 am]

BILLING CODE 3510-KD-M